DEPARTMENT OF COMMERCE

National Oceanic and Atmospheric Administration

[RTID 0648-XE996]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an application to modify and extend an Exempted Fishing Permit (EFP) contains all of the required information and warrants further consideration. The EFP would allow federally permitted fishing vessels to fish outside fishery regulations in support of exempted fishing activities proposed by Coonamessett Farm Foundation (CFF). Regulations under the Magnuson-Stevens Fishery Conservation and Management Act allow NMFS to publish a notification in the Federal Register if an EFP, as granted, is significantly different from the original application.

DATES: Comments must be received on or before July 7, 2025.

ADDRESSES: You may submit written comments by email at nmfs.gar.efp@noaa.gov. Include in the subject line “CFF Great South Channel HMA Clam EFP modification.”

All comments received are a part of the public record and will generally be posted for public viewing in https://www.noaa.gov/organization/information-technology/foia-reading-room without change. All personal identifying information (e.g., name, address), confidential business information, or otherwise sensitive information submitted voluntarily by the sender will be publicly accessible. NMFS will accept anonymous comments (enter “anonymous” as the signature if you wish to remain anonymous).

FOR FURTHER INFORMATION CONTACT: Douglas Potts, Fishery Policy Analyst, douglas.potts@noaa.gov, 978-281-9341.

SUPPLEMENTARY INFORMATION: On March 13, 2024, NMFS published a notice seeking public comment on an EFP application submitted by CFF (89 FR 18376), which, once approved, authorized 260 surf clam compensation fishing trips in a portion of Davis Bank East, with proceeds used to support acoustic habitat mapping of Davis Bank East. Four comments were received on the application, three in support of the EFP and one comment supported the habitat mapping objectives of the project while raising concerns about the potential impact of the compensation fishing. On May 24, 2024, NMFS issued the EFP effective August 1, 2024, through July 31, 2025. On October 24, 2024, CFF requested a minor modification to the compensation fishing area because of unexpectedly low catch rates in the original area. After reviewing the potential impact of the requested change, NMFS issued a revised EFP on November 6, 2024.

Because of continuing poor catch rates in the Davis Bank East area, CFF requested to move most of the remaining compensation fishing trips to a portion of the Rose and Crown area of the Great South Channel Habitat Management Area. In addition, CFF requests the duration of the EFP be extended to allow time to complete the full number of authorized trips. Because this new compensation fishing area is outside of the area described in the March 2024 notice, NMFS is seeking public comment on the requested change. The new area is defined by these coordinates:

Table 1—Coordinates
Latitude | Longitude
41.19996552° N | 69.70669353° W
41.22955° N | 69.6906° W
41.27988109° N | 69.71163754° W
41.27766413° N | 69.62776194° W
41.23004167° N | 69.60022291° W
41.21001667° N | 69.58873333° W
41.1985623° N | 69.59788189° W

The EFP allows fishing vessels to conduct commercial fishing activities that the regulations would otherwise restrict. This EFP exempts the participating vessels from the following Federal regulations:

Table 2—Requested Exemptions
CFR citation | Regulation | Need for exemption
50 CFR 648.370(h) | Habitat Management Areas—prohibition on using bottom-tending mobile gear | To conduct compensation fishing with hydraulic clam dredges.

Table 3—Project Summary
Project title | Compensation fishing in Support of a Great South Channel Habitat Management Area Study Phase II: An Acoustic Mapping Survey of Davis Bank East.
Principal Investigator | Natalie Jennings.
Institution | CFF.
Continuing project (yes/no) | Yes.
Initial application date | September 26, 2023.
Complete application date | December 5, 2023.
Request to Modify and Extend | March 31, 2025.
Funding source | Compensation fishing.
Project Start | August 1, 2024.
Project End | December 31, 2025.
Project objectives | Compensation surfclam fishing to fund a habitat mapping project using multibeam sonar and drop cameras.
Project location | Great South Channel Habitat Management Area, Davis Bank East and Rose and Crown.
Number of vessels | 3 (2 active with 1 in reserve).
Number of trips | 260 (207 remaining).
Trip duration (days) | 1.
Total number of days | 260.
Gear type(s) | Hydraulic clam dredge.
Number of tows or sets | 30 per trip.
Duration of tows or sets (hours) | 0.16.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 17, 2025.
Kelly Denit,
Director, Office of Sustainable Fisheries, National Marine Fisheries Service.

[FR Doc. 2025-11367 Filed 6-18-25; 8:45 am]

BILLING CODE 3510-22-P